ENVIRONMENTAL PROTECTION AGENCY

[ER-FRL-9033-5]

Environmental Impact Statements; Notice of Availability

Responsible Agency: Office of Federal Activities, General Information (202) 564-7146 or http://www.epa.gov/nepa.

Weekly receipt of Environmental Impact Statements (EISs)

Filed 05/22/2017 Through 05/26/2017

Pursuant to 40 CFR 1506.9.

Notice

Section 309(a) of the Clean Air Act requires that EPA make public its comments on EISs issued by other Federal agencies. EPA's comment letters on EISs are available at: http://www.epa.gov/compliance/nepa/eisdata.html.

EIS No. 20170091, Draft, USAF, OH, Wright-Patterson Air Force Base Housing Program, Comment Period Ends: 07/17/2017, Contact: Mike Ackerman 210-925-2741

EIS No. 20170092, Draft, USACE, USFWS, CA, South Sacramento Habitat Conservation Plan, Comment Period Ends: 09/05/2017, Contact: John Robles 916-414-6731 (USFWS), Michael Jewell 916-557-6605 (USACE)

The U.S. Department of the Interior's Fish and Wildlife Service and U.S. Army Corps of Engineers are joint lead agencies on this project.

EIS No. 20170093, Draft Supplement, FTA, CA, Westside Purple Line Extension, Comment Period Ends: 07/17/2017, Contact: Ray Tellis 213-202-3950

Amended Notices

EIS No. 20170031, Draft, USFS, ID, Big Creek Hot Springs Geothermal Leasing, Comment Period Ends: 07/03/2017, Contact: Julie Hopkins 208-756-5279.

Revision to FR Notice Published 03/17/2017; Reopening the Comment Period to End 07/03/2017.

Dated: May 30, 2017.
Dawn Roberts,
Management Analyst, NEPA Compliance Division, Office of Federal Activities.

[FR Doc. 2017-11464 Filed 6-1-17; 8:45 am]

BILLING CODE 6560-50-P